DEPARTMENT OF COMMERCE

International Trade Administration

[A-549-822]

Certain Frozen Warmwater Shrimp From Thailand; Preliminary Results of Antidumping Duty Administrative Review, Partial Rescission of Review, Preliminary Determination of No Shipments; 2012-2013

AGENCY: Enforcement and Compliance, formerly Import Administration, International Trade Administration, Department of Commerce.

SUMMARY: The Department of Commerce (Department) is conducting an administrative review of the antidumping duty order on certain frozen warmwater shrimp (shrimp) from Thailand.¹ The review covers 159 ² producers/exporters of the subject merchandise. The period of review (POR) is February 1, 2012, through January 31, 2013.

¹ The deadline for the preliminary results of this review was March 17, 2014. Due to the closure of the Federal Government in Washington, DC on March 17, 2014, the Department reached this determination on the next business day (i.e., March 18, 2014). See Notice of Clarification: Application of “Next Business Day” Rule for Administrative Determination Deadlines Pursuant to the Tariff Act of 1930, As Amended, 70 FR 24533 (May 10, 2005).

² This figure does not include two companies for which the Department is rescinding the administrative review.

The Department is examining the following exporters/producers on an individual basis: Thai Union Frozen Products Public Co., Ltd. and Thai Union Seafood Co., Ltd. (collectively, Thai Union) for the period February 1, 2012, through April 22, 2012; the Pakfood Group ³ for the period February 1, 2012, through April 22, 2012; and Thai Union/Pakfood for the period April 23, 2012 through January 31, 2013.⁴ We preliminarily determined that sales to the United States have been made below normal value (NV) and, therefore, are subject to antidumping duties. We also are rescinding this review with respect to Marine Gold Products Limited (Marine Gold) because the order with respect to shrimp produced and exported by this company was revoked effective February 1, 2012.

³ The Pakfood Group includes the following companies: Pakfood Public Company Limited, Okeanos Co., Ltd., Okeanos Food Co., Ltd., Asia Pacific (Thailand) Co., Ltd., Chaophraya Cold Storage Co., Ltd., and Takzin Samut Co., Ltd. (collectively, Pakfood).

⁴ In this review, the Department determined to treat the Pakfood Group as a collapsed entity with Thai Union, effective as of April 23, 2012. See the memorandum from Christian Marsh, Deputy Assistant Secretary for Antidumping and Countervailing Duty Operations, to Paul Piquado, Assistant Secretary for Enforcement and Compliance, entitled, “Decision Memorandum for the Preliminary Results of the Administrative Review of the Antidumping Duty Order on Certain Frozen Warmwater Shrimp from Thailand,” dated concurrently with these results (Preliminary Decision Memorandum), which is hereby adopted by this notice.

If these preliminary results are adopted in the final results of this review, we will instruct U.S. Customs and Border Protection (CBP) to assess antidumping duties on all appropriate entries. Interested parties are invited to comment on these preliminary results.

DATES: Effective Date: March 24, 2014.

FOR FURTHER INFORMATION CONTACT: Dennis McClure, AD/CVD Operations, Office II, Enforcement and Compliance, International Trade Administration, U.S. Department of Commerce, 14th Street and Constitution Avenue NW., Washington, DC 20230; telephone: (202) 482-5973.

SUPPLEMENTARY INFORMATION:

Scope of the Order

The merchandise subject to the order is certain frozen warmwater shrimp.⁵ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description remains dispositive.

⁵ For a complete description of the scope of the Order, see the Preliminary Decision Memorandum.

Partial Rescission of Review

On July 16, 2013, the Department published its final results for the February 1, 2011, through January 31, 2012, administrative review of the antidumping duty order on shrimp from Thailand.⁶ In that review, we found that Marine Gold met the requirements of revocation as described in 19 CFR 351.222(b) ⁷ and, thus, we revoked the antidumping duty order on shrimp from Thailand (Shrimp Order) with respect to subject merchandise produced and exported by Marine Gold. As a result of Marine Gold's revocation in the 2011-2012 administrative review, we are rescinding this administrative review with respect to Marine Gold because the merchandise produced and sold by Marine Gold is not subject to the Shrimp Order as of February 1, 2012.

⁶ See Certain Frozen Warmwater Shrimp From Thailand: Final Results of Antidumping Duty Administrative Review, Partial Rescission of Review, and Revocation of Order (in Part); 2011-2012, 78 FR 42497, 42499 (July 16, 2013) (Shrimp AR7 Final Results).

⁷ The Department modified the section of its regulations concerning the revocation of antidumping and countervailing duty orders in whole or in part, but that modification did not apply to the February 1, 2011, through January 31, 2012, administrative review. See Modification to Regulation Concerning the Revocation of Antidumping and Countervailing Duty Orders, 77 FR 29875 (May 21, 2012). The reference to 19 CFR 351.222(b) refers to the Department's regulations prior to the modification. The modification applies to the instant administrative review.

Because we revoked the Shrimp Order with respect to subject merchandise produced and exported by Marine Gold, we instructed CBP that entries of such merchandise that were suspended on or after February 1, 2012, should be liquidated without regard to antidumping duties.

In addition, in the Shrimp AR7 Final Results, the Department determined that one non-selected respondent, Tanaya International Co., Ltd. (Tanaya) is nether an exporter nor a manufacturer of subject merchandise, as defined in 19 CFR 351.213(b), and, accordingly, we rescinded the review with respect to this entity. Consistent with our finding in the AR7 Final Results, and because Tanaya is not an interested party in this proceeding, we find our initiation with respect to Tanaya was improper, and we are rescinding this review with respect to this company.

Preliminary Determination of No Shipments

Among the companies under review, 13 companies properly filed statements reporting that they made no shipments of subject merchandise to the United States during the POR.⁸ Based on the certifications submitted by all 13 of these companies and our analysis of CBP information, we preliminarily determine that the following 13 companies did not have any reviewable transactions during the POR:

⁸ For a full explanation of the Department's analysis, see the Preliminary Decision Memorandum.

(1) Anglo-Siam Seafoods Co., Ltd.;

(2) Daedong (Thailand) Co., Ltd.;

(3) Grobest Frozen Foods Co., Ltd.;

(4) GSE Lining Technology Co., Ltd.;

(5) Leo Global Logistics Co., Ltd;

(6) Leo Transports;

(7) Lucky Union Foods Co., Ltd.;

(8) Namprick Maesri Ltd. Part.;

(9) S.K. Foods (Thailand) Public Co., Limited;

(10) Shing-Fu Seaproducts Development Co., Ltd.;

(11) Surapon Nichirei Foods Co., Ltd.;

(12) Thai Union Manufacturing ; and

(13) V. Thai Food Product Co., Ltd.

In addition, the Department finds that it is not appropriate to preliminarily rescind the review with respect to these companies but, rather, to complete the review with respect to these companies and issue appropriate instructions to CBP based on the final results of this review.⁹

⁹ See Certain Frozen Warmwater Shrimp From Thailand: Preliminary Results of Antidumping Duty Administrative Review and Intent to Revoke the Order (In Part); 2011-2012, 78 FR 15686, 15687 (March 12, 2013), unchanged in Shrimp AR7 Final Results, 78 FR at 42498.

Finally, the Department received an improperly-filed no shipment certification from another Thai company involved in this review, CP Retailing and Marketing Co., Ltd., as well as an improperly-filed notification from an additional company, Thai Ocean Venture Co., Ltd., that it is not a producer/exporter. We find that there is insufficient evidence on the record of this review to conclude that these companies made no shipments of subject merchandise to the United States during the POR because they failed to remedy the procedural defeciencies in their submissions, in accordance with 19 CFR 351.303(g)(1), despite the Department's request that they do so, and thus their submissions were not accepted for the administrative record of this review. Therefore, we are continuing to include both CP Retailing and Marketing Co., Ltd. and Thai Ocean Venture Co., Ltd. in this administrative review, and we assigned these companies a preliminary dumping rate based on the margin calculated for Thai Union/Pakfood pursuant to section 735(c)(5)(A) of the Act.

Methodology

The Department conducted this review in accordance with section 751(a)(2) of the Tariff Act of 1930, as amended (the Act). Export price is calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (IA ACCESS). IA ACCESS is available to registered users at http://iaaccess.trade.gov and in the Central Records Unit, Room 7046 of the main Department of Commerce building. In addition, a complete version of the Preliminary Decision Memorandum can be accessed directly at http://enforcement.trade.gov/frn/index.html. The signed Preliminary Decision Memorandum and the electronic version of the Preliminary Decision Memorandum are identical in content.

Preliminary Results of the Review

As a result of this review, we preliminarily determine that weighted-average dumping margins exist for the respondents for the period February 1, 2012, through January 31, 2013, as follows:

Manufacturer/exporter | Percent margin
Thai Union Frozen Products Public Co., Ltd./Thai Union Seafood Co., Ltd./Pakfood Public Company Limited/Okeanos Food Co., Ltd.,/Asia Pacific (Thailand) Co., Ltd.,/Chaophraya Cold Storage Co., Ltd./Takzin Samut Co., Ltd | ¹⁰ 1.10

Review-Specific Average Rate Applicable to the Following Non-Selected Companies:

¹⁰ This cash deposit rate is based on the combined sales of Thai Union and Pakfood after the companies were collapsed (i.e., sales made during the period April 23, 2012, through January 31, 2013). The rates calculated for Thai Union and Pakfood for the period February 1, 2012, through April 22, 2012, are zero percent and 2.09 percent, respectively. The calculations for the period February 1, 2012, through April 22, 2012, will be used for assessment purposes only, as noted in the “Collapsing of Thai Union and Pakfood” section of the Preliminary Decision Memorandum.

Manufacturer/exporter | Percent margin
A Foods 1991 Co., Limited | 1.10
A. Wattanachai Frozen Products Co., Ltd | 1.10
A.S. Intermarine Foods Co., Ltd | 1.10
ACU Transport Co., Ltd | 1.10
Anglo-Siam Seafoods Co., Ltd | *
Apex Maritime (Thailand) Co., Ltd | 1.10
Apitoon Enterprise Industry Co., Ltd | 1.10
Applied DB | 1.10
Asian Seafood Coldstorage (Sriracha) | 1.10
Asian Seafoods Coldstorage Public Co., Ltd./Asian Seafoods Coldstorage (Suratthani) Co./STC Foodpak Ltd | 1.10
Assoc. Commercial Systems | 1.10
B.S.A. Food Products Co., Ltd | 1.10
Bangkok Dehydrated Marine Product Co., Ltd | 1.10
C Y Frozen Food Co., Ltd | 1.10
CP Retailing and Marketing Co., Ltd | 1.10
C.P. Intertrade Co., Ltd | 1.10
Calsonic Kansei (Thailand) Co., Ltd | 1.10
Century Industries Co., Ltd | 1.10
Chaivaree Marine Products Co., Ltd | 1.10
Chaiwarut Co., Ltd | 1.10
Charoen Pokphand Foods Public Co., Ltd | 1.10
Chonburi LC | 1.10
Chue Eie Mong Eak Ltd. Part | 1.10
Commonwealth Trading Co., Ltd | 1.10
Core Seafood Processing Co., Ltd | 1.10
CP Merchandising Co., Ltd³ | 1.10
C.P. Mdse | 1.10
Crystal Frozen Foods Co., Ltd. and/or Crystal Seafood | 1.10
Daedong (Thailand) Co., Ltd | *
Daiei Taigen (Thailand) Co., Ltd | 1.10
Daiho (Thailand) Co., Ltd | 1.10
Dynamic Intertransport Co., Ltd | 1.10
Earth Food Manufacturing Co., Ltd | 1.10
F.A.I.T. Corporation Limited | 1.10
Far East Cold Storage Co., Ltd | 1.10
Findus (Thailand) Ltd | 1.10
Fortune Frozen Foods (Thailand) Co., Ltd | 1.10
Frozen Marine Products Co., Ltd | 1.10
Gallant Ocean (Thailand) Co., Ltd | 1.10
Gallant Seafoods Corporation | 1.10
Global Frozen Food (Thailand) Co | 1.10
Global Maharaja Co., Ltd | 1.10
Golden Sea Frozen Foods Co., Ltd | 1.10
Golden Seafood International Co., Ltd | 1.10
Golden Thai Imp. & Exp. Co., Ltd | 1.10
Good Fortune Cold Storage Co., Ltd | 1.10
Good Luck Product Co., Ltd | 1.10
Grobest Frozen Foods Co., Ltd | *
GSE Lining Technology Co., Ltd | *
Gulf Coast Crab Intl | 1.10
H.A.M. International Co., Ltd | 1.10
Haitai Seafood Co., Ltd | 1.10
Handy International (Thailand) Co., Ltd | 1.10
Heng Seafood Limited Partnership | 1.10
Heritrade Co., Ltd | 1.10
HIC (Thailand) Co., Ltd | 1.10
High Way International Co., Ltd | 1.10
I.T. Foods Industries Co., Ltd | 1.10
Inter-Oceanic Resources Co., Ltd | 1.10
Inter-Pacific Marine Products Co., Ltd | 1.10
K & U Enterprise Co., Ltd | 1.10
K Fresh | 1.10
K. D. Trading Co., Ltd | 1.10
K.L. Cold Storage Co., Ltd | 1.10
KF Foods Limited | 1.10
Kiang Huat Sea Gull Trading Frozen Food Public Co., Ltd | 1.10
Kibun Trdg | 1.10
Kingfisher Holdings Ltd | 1.10
Kitchens of the Oceans (Thailand) Company, Ltd | 1.10
Klang Co., Ltd | 1.10
Kongphop Frozen Foods Co., Ltd | 1.10
Kosamut Frozen Foods Co., Ltd./The Siam Union Frozen Foods Co., Ltd | 1.10
Leo Global Logistics Co., Ltd | *
Lee Heng Seafood Co., Ltd | 1.10
Leo Transports | *
Li-Thai Frozen Foods Co., Ltd | 1.10
Lucky Union Foods Co., Ltd | *
Maersk Line | 1.10
Magnate & Syndicate Co., Ltd | 1.10
Mahachai Food Processing Co., Ltd | 1.10
Merit Asia Foodstuff Co., Ltd | 1.10
Merkur Co., Ltd | 1.10
Ming Chao Ind Thailand | 1.10
N&N Foods Co., Ltd | 1.10
NR Instant Produce Co., Ltd | 1.10
Namprik Maesri Ltd. Part | *
Narong Seafood Co., Ltd | 1.10
Nha Trang Seaproducts Company (“Nha Trang”) and/or Nha Trang Seaproduct Company (“NHA TRANG SEAFOODS”) | 1.10
Nongmon SMJ Products | 1.10
Ongkorn Cold Storage Co., Ltd./Thai-Ger Marine Co., Ltd | 1.10
Pacific Queen Co., Ltd | 1.10
Penta Impex Co., Ltd | 1.10
Pinwood Nineteen Ninety Nine | 1.10
Piti Seafood Co., Ltd | 1.10
Premier Frozen Products Co., Ltd | 1.10
Preserved Food Specialty Co., Ltd | 1.10
Queen Marine Food Co., Ltd | 1.10
Rayong Coldstorage (1987) Co., Ltd | 1.10
S&D Marine Products Co., Ltd | 1.10
S&P Aquarium | 1.10
S&P Syndicate Public Company Ltd | 1.10
S. Chaivaree Cold Storage Co., Ltd | 1.10
S. Khonkaen Food Industry Public Co., Ltd. and/or S. Khonkaen Food Ind. Public | 1.10
S.K. Foods (Thailand) Public Co., Limited | *
Samui Foods Company Limited | 1.10
SB Inter Food Co., Ltd | 1.10
SCT Co., Ltd | 1.10
Sea Bonanza Food Co., Ltd | 1.10
SEA NT'L CO., LTD | 1.10
Seafoods Enterprise Co., Ltd | 1.10
Seafresh Fisheries/Seafresh Industry Public Co., Ltd | 1.10
Search and Serve | 1.10
Shianlin Bangkok Co., Ltd | 1.10
Shing Fu Seaproducts Development Co | *
Siam Food Supply Co., Ltd | 1.10
Siam Intersea Co., Ltd | 1.10
Siam Marine Products Co., Ltd | 1.10
Siam Ocean Frozen Foods Co., Ltd | 1.10
Siamchai International Food Co., Ltd | 1.10
Smile Heart Foods | 1.10
SMP Products, Co., Ltd | 1.10
Southport Seafood Co., Ltd | 1.10
Stapimex | 1.10
Star Frozen Foods Co., Ltd | 1.10
Starfoods Industries Co., Ltd | 1.10
Suntechthai Intertrading Co., Ltd | 1.10
Surapon Foods Public Co., Ltd./Surat Seafoods Public Co., Ltd | 1.10
Surapon Nichirei Foods Co., Ltd | *
Suratthani Marine Products Co., Ltd | 1.10
Suree Interfoods Co., Ltd | 1.10
T.S.F. Seafood Co., Ltd | 1.10
Tep Kinsho Foods Co., Ltd | 1.10
Teppitak Seafood Co., Ltd | 1.10
Tey Seng Cold Storage Co., Ltd | 1.10
Thai Agri Foods Public Co., Ltd | 1.10
Thai Mahachai Seafood Products Co., Ltd | 1.10
Thai Ocean Venture Co., Ltd | 1.10
Thai Patana Frozen | 1.10
Thai Prawn Culture Center Co., Ltd | 1.10
Thai Royal Frozen Food Co., Ltd | 1.10
Thai Spring Fish Co., Ltd | 1.10
Thai Union Manufacturing Company Limited | *
Thai World Imports and Exports Co., Ltd | 1.10
Thai Yoo Ltd., Part | 1.10
The Siam Union Frozen Foods Co., Ltd | 1.10
The Union Frozen Products Co., Ltd./Bright Sea Co., Ltd | 1.10
Trang Seafood Products Public Co., Ltd | 1.10
Transamut Food Co., Ltd | 1.10
Tung Lieng Tradg | 1.10
United Cold Storage Co., Ltd | 1.10
UTXI Aquatic Products Processing Company | 1.10
V. Thai Food Product Co., Ltd | *
Xian-Ning Seafood Co., Ltd | 1.10
Yeenin Frozen Foods Co., Ltd | 1.10
YHS Singapore Pte | 1.10
ZAFCO TRDG | 1.10
* No shipments or sales subject to this review.

Disclosure and Public Comment

The Department intends to disclose to interested parties the calculations performed in connection with these preliminary results within five days of the date of publication of this notice.¹¹ Interested parties may submit cases briefs not later than 30 days after the date of publication of this notice.¹² Rebuttal briefs, limited to issues raised in the case briefs, may be filed not later than five days after the deadline for filing case briefs.¹³ Parties who submit case briefs or rebuttal briefs in this proceeding are encouraged to submit with each argument: (1) A statement of the issue; (2) a brief summary of the argument; and (3) a table of authorities.¹⁴ Case and rebuttal briefs should be filed using the Department's electronic records system, IA ACCESS.¹⁵

¹¹ See 19 CFR 351.224(b).

¹² See 19 CFR 351.309(c)

¹³ See 19 CFR 351.309(d).

¹⁴ See 19 CFR 351.309(c)(2) and (d)(2).

¹⁵ See 19 CFR 351.303.

Interested parties who wish to request a hearing, or to participate if one is requested, must submit a written request to the Assistant Secretary for Enforcement and Compliance, filed electronically via IA ACCESS.¹⁶ An electronically-filed document must be received successfully in its entirety by IA ACCESS, by 5 p.m. Eastern Standard Time within 30 days after the date of publication of this notice.¹⁷ Requests should contain: (1) The party's name, address and telephone number; (2) the number of participants; and (3) a list of issues to be discussed. Issues raised in the hearing will be limited to those raised in the respective case briefs.¹⁸ The Department intends to issue the final results of this administrative review, including the results of its analysis of issues raised in any written briefs, not later than 120 days after the date of publication of this notice, pursuant to section 751(a)(3)(A) of the Act.

¹⁶ See 19 CFR 351.310(c)

¹⁷ See id.

¹⁸ See id.

Assessment Rates

Upon completion of the administrative review, the Department shall determine, and CBP shall assess, antidumping duties on all appropriate entries, in accordance with 19 CFR 351.212(b)(1).

For entries of Thai Union/Pakfood's subject merchandise made from April 23, 2012, through January 31, 2013, we will calculate importer-specific ad valorem duty assessment rates based on the ratio of the total amount of antidumping duties calculated for the examined sales to the total entered value of the sales. See 19 CFR 351.212(b)(1). With respect to entries of subject merchandise by Thai Union and Pakfood prior to April 23, 2013, we will calculate importer-specific ad valorem duty assessment rates using the individual company information based on the same method noted above.

For the companies which were not selected for individual review, we will calculate an assessment rate based on the weighted-average of the cash deposit rate calculated for Thai Union/Pakfood.

We will instruct CBP to assess antidumping duties on all appropriate entries covered by this review if any importer-specific assessment rate calculated in the final results of this review is above de minimis. Where either the respondent's weighted-average dumping margin is zero or de minimis, or an importer-specific rate is zero or de minimis, we will instruct CBP to liquidate the appropriate entries without regard to antidumping duties. The final results of this review shall be the basis for the assessment of antidumping duties on entries of merchandise covered by the final results of this review and for future deposits of estimated duties, where applicable.¹⁹

¹⁹ See section 751(a)(2)(C) of the Act.

The Department clarified its “automatic assessment” regulation on May 6, 2003. This clarification will apply to entries of subject merchandise during the POR produced by Thai Union/Pakfood for which these companies did not know that the merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue liquidation instructions to CBP 15 days after publication of the final results of this review.

Cash Deposit Requirements

The following deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously reviewed or investigated companies not participating in this review, the cash deposit will continue to be the company-specific rate published for the most recently completed segment; (3) if the exporter is not a firm covered in this review, or the original less-than-fair-value (LTFV) investigation, but the manufacturer is, the cash deposit rate will be the rate established for the most recent segment for the manufacturer of the merchandise; and (4) the cash deposit rate for all other manufacturers or exporters will continue to be 5.34 percent, the all-others rate made effective by the Section 129 Determination.²⁰ These deposit requirements, when imposed, shall remain in effect until further notice.

²⁰ See Implementation of the Findings of the WTO Panel in United States Antidumping Measure on Shrimp from Thailand: Notice of Determination Under Section 129 of the Uruguay Round Agreements Act and Partial Revocation of the Antidumping Duty Order on Frozen Warmwater Shrimp From Thailand, 74 FR 5638 (January 30, 2009) (Section 129 Determination).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: March 18, 2014.
Paul Piquado,
Assistant Secretary for Enforcement and Compliance.

Appendix

List of Topics Discussed in the Preliminary Decision Memorandum

1. Summary

2. Background

3. Scope of the Order

4. Preliminary Determination of No Shipments

5. Rescission of Review, In Part

6. Collapsing of Thai Union and Pakfood

7. Discussion of the Methodology

a. Fair Value Comparison

b. Determination of Comparison Method

c. Product Comparisons

d. Export Price/Constructed Export Price

i. Pakfood

ii. Thai Union

iii. Thai Union/Pakfood

e. Normal Value

i. Home Market Viability

ii. Affiliated-Party Transactions and Arm's-Length Test

iii. Level of Trade

1. Pakfood

2. Thai Union

3. Thai Union/Pakfood

iv. Cost of Production Analysis

1. Calculation of Cost of Production

2. Test of Comparison Market Sales Prices

3. Results of the COP Test

v. Calculation of Normal Value Based on Comparison Market Prices

1. Pakfood

2. Thai Union

3. Thai Union/Pakfood

8. Currency Conversion

9. Recommendation

[FR Doc. 2014-06433 Filed 3-21-14; 8:45 am]

BILLING CODE 3510-DS-P